DEPARTMENT OF HEALTH AND HUMAN SERVICES

Substance Abuse and Mental Health Services Administration

Fiscal Year (FY) 2003 Funding Opportunities

AGENCY: Substance Abuse and Mental Health Services Administration, HHS.

ACTION: Notice of funding availability for Community Collaborations to Prevent Youth Violence and Promote Youth Development (short title: Youth Violence Prevention Grants).

SUMMARY: The Substance Abuse and Mental Health Services Administration (SAMHSA) Center for Mental Health Services (CMHS) announces the availability of FY 2003 funds for grants for the following activity. This notice is not a complete description of the activity; potential applicants must obtain a copy of the Request for Applications (RFA), including part I, Community Collaborations to Prevent Youth Violence and Promote Youth Development (SM 03-005) (short title: Youth Violence Prevention Grants), and part II, General Policies and Procedures Applicable to all SAMHSA Applications for Discretionary Grants and Cooperative Agreements, before preparing and submitting an application.

Activity | Application deadline | Est. funds FY 2003 | Est. number of awards | Project period (years)
Community Collaborations to Prevent Youth Violence and Promote Youth Development | Jan. 22, 2002 | $4,000,000 | 24 | 2

The actual amount available for the award may vary depending on unanticipated program requirements and actual SAMHSA appropriations. This program is being announced prior to the annual appropriation for FY 2003 for SAMHSA's programs. Applications are invited based on the assumption that sufficient funds will be appropriated for FY 2003 to permit funding of Community Collaborations to Prevent Youth Violence and Promote Youth Development grants. This program is being announced in order to allow applicants sufficient time to plan and prepare applications. Solicitation of applications in advance of a final appropriation will also enable the award of appropriated grant funds in an expeditious manner and thus allow prompt implementation and evaluation of promising practices. All applicants are reminded, however, that we cannot guarantee sufficient funds will be appropriated to permit SAMHSA to fund the grants. This program is authorized under section 520A of the Public Health Service Act. SAMHSA's policies and procedures for peer review and Advisory Council review of grant and cooperative agreement applications were published in the Federal Register (Vol. 58, No. 126) on July 2, 1993.

General Instructions: Applicants must use application form PHS 5161-1 (Rev. 7/00). The application kit contains the two-part application materials (complete programmatic guidance and instructions for preparing and submitting applications), the PHS 5161-1 which includes standard form 424 (face page), and other documentation and forms. Application kits may be obtained from: SAMHSA's Mental Health Information Center, (800) 789-2647.

The PHS 5161-1 application form and the full text of the grant announcement are also available electronically via SAMHSA's World Wide Web home page: http://www.samhsa.gov (click on “Grant Opportunities”).

When requesting an application kit, the applicant must specify the particular announcement number for which detailed information is desired. All information necessary to apply, including where to submit applications and application deadline instructions, are included in the application kit.

Purpose: The Substance Abuse and Mental Health Services Administration (SAMHSA), Center Mental Health Services (CMHS) is accepting applications for a fiscal year (FY) 2003 grants to implement Youth Violence Prevention projects in three categories:

• Group I: Grants to organizations proposing youth violence prevention projects targeting geographically or socially defined youth populations;

• Group II: Grants that address violence towards, or by, females; and

• Group III: Grants to support mental health services for youth with justice system involvement.

Eligibility: Eligible applicants are domestic public and private non-profit entities such as public or private mental health systems, institutions, and agencies; State or local departments of juvenile/criminal justice; mental health courts; juvenile/criminal court systems; district attorney's offices; or public defender's offices; public or private educational systems, institutions, and agencies; tribal governments and tribal organizations; community-based and faith-based organizations, such as community-based advocacy, health, substance abuse, mental health, social service, consumer and family organizations; and service organizations serving ethnic, cultural, or social minority groups; or other public agencies or nonprofit organizations that can perform the requirements of this program.

Availability of Funds: It is expected that approximately $4 million will be available to award grants in the following categories:

• Group I: Approximately eight awards will be made;

• Group II: Approximately eight awards will be made; and

• Group III: Approximately eight awards will be made.

Grants in groups I and II will be funded at a maximum of $150,000 per year in total costs (direct and indirect) for 2 years; grants in group III will be funded at a maximum of $200,000 per year in total costs (direct and indirect) for 2 years. Applications with proposed budgets that request a level of SAMHSA funding support in excess of the amounts listed above will not be reviewed.

Period of Support: Awards may be requested for up to 2 years.

Criteria for Review and Funding: General Review Criteria: Competing applications requesting funding under this activity will be reviewed for technical merit in accordance with established PHS/SAMHSA peer review procedures. Review criteria that will be used by the peer review groups are specified in the application guidance material.

Award Criteria for Scored Applications: Applications will be considered for funding on the basis of their overall technical merit as determined through the peer review group and the appropriate National Advisory Council review process. Availability of funds will also be an award criterion. Additional award criteria specific to the programmatic activity may be included in the application guidance materials.

Catalog of Federal Domestic Assistance Number: 93.243.

Program Contact: For questions on substantive issues regarding the program, eligibility, and funding of reviewed applications, contact: Pat Shea, M.S.W., M.A., Special Programs Development Branch, CMHS/SAMHSA, Parklawn Building, Room 17C-26, 5600 Fishers Lane, Rockville, MD 20857. (301) 443-3655. E-mail: pshea@samhsa.gov.

For questions on budget, completion of items on forms, and administrative issues, contact: Steve Hudak, Division of Grants Management, OPS/SAMHSA, Rockwall II, 6th floor, 5600 Fishers Lane, Rockville, MD 20857. (301) 443-9666. E-Mail: shudak@samhsa.gov.

Public Health System Reporting Requirements: The Public Health System Impact Statement (PHSIS) is intended to keep State and local health officials apprised of proposed health services grant and cooperative agreement applications submitted by community-based nongovernmental organizations within their jurisdictions.

Community-based nongovernmental service providers who are not transmitting their applications through the State must submit a PHSIS to the head(s) of the appropriate State and local health agencies in the area(s) to be affected not later than the pertinent receipt date for applications. This PHSIS consists of the following information:

a. A copy of the face page of the application (Standard form 424).

b. A summary of the project (PHSIS), not to exceed one page, which provides:

(1) A description of the population to be served.

(2) A summary of the services to be provided.

(3) A description of the coordination planned with the appropriate State or local health agencies.

State and local governments and Indian Tribal Authority applicants are not subject to the Public Health System Reporting Requirements. Application guidance materials will specify if a particular FY 2003 activity is subject to the Public Health System Reporting Requirements.

PHS Non-use of Tobacco Policy Statement: The PHS strongly encourages all grant and contract recipients to provide a smoke-free workplace and promote the non-use of all tobacco products. In addition, Public Law 103-227, the Pro-Children Act of 1994, prohibits smoking in certain facilities (or in some cases, any portion of a facility) in which regular or routine education, library, day care, health care, or early childhood development services are provided to children. This is consistent with the PHS mission to protect and advance the physical and mental health of the American people.

Executive Order 12372: Applications submitted in response to the FY 2003 activity listed above are subject to the intergovernmental review requirements of Executive Order 12372, as implemented through DHHS regulations at 45 CFR part 100. E.O. 12372 sets up a system for State and local government review of applications for Federal financial assistance. Applicants (other than Federally recognized Indian tribal governments) should contact the State's Single Point of Contact (SPOC) as early as possible to alert them to the prospective application(s) and to receive any necessary instructions on the State's review process. For proposed projects serving more than one State, the applicant is advised to contact the SPOC of each affected State. A current listing of SPOCs is included in the application guidance materials or on SAMHSA's website under “Assistance with Grant Applications”. The SPOC should send any State review process recommendations directly to: Division of Extramural Activities, Policy, and Review, Substance Abuse and Mental Health Services Administration, Parklawn Building, Room 17-89, 5600 Fishers Lane, Rockville, Maryland 20857. The due date for State review process recommendations is no later than 60 days after the specified deadline date for the receipt of applications. SAMHSA does not guarantee to accommodate or explain SPOC comments that are received after the 60-day cut-off.

Dated: November 20, 2002.
Richard Kopanda,
Executive Officer, SAMHSA.

[FR Doc. 02-29960 Filed 11-25-02; 8:45 am]

BILLING CODE 4162-20-P